DEPARTMENT OF TRANSPORTATION

Federal Aviation Administration

14 CFR Part 39

[Docket No. FAA-2005-20661; Directorate Identifier 2004-NM-261-AD; Amendment 39-14206; AD 2005-16-01]

RIN 2120-AA64

Airworthiness Directives; Boeing Model 747-200B, 747-300, 747-400, and 747-400D Series Airplanes

AGENCY: Federal Aviation Administration (FAA), Department of Transportation (DOT).

ACTION: Final rule.

SUMMARY: The FAA is adopting a new airworthiness directive (AD) for certain Boeing Model 747-200B, 747-300, 747-400, and 747-400D series airplanes. This AD requires modifying the lateral shear beam for the Door 5 crew rest and, for certain airplanes, replacing Zone E tie rods and modifying the Zone E stowbin ladder. This AD results from a report indicating that the lateral shear beam for the Door 5 crew rest does not meet the 9G forward loading requirement. We are issuing this AD to prevent the structural support for the Door 5 crew rest and Zone E stowbins from failing, which could result in the crew rest or stowbins falling during an emergency and consequent injury to crew and passengers.

DATES: This AD becomes effective September 6, 2005.

The Director of the Federal Register approved the incorporation by reference of certain publications listed in the AD as of September 6, 2005.

ADDRESSES: You may examine the AD docket on the Internet at http://dms.dot.gov or in person at the Docket Management Facility, U.S. Department of Transportation, 400 Seventh Street, SW., Nassif Building, Room PL-401, Washington, DC.

Contact Boeing Commercial Airplanes, P.O. Box 3707, Seattle, Washington 98124-2207, for service information identified in this AD.

FOR FURTHER INFORMATION CONTACT: Don Wren, Aerospace Engineer, Cabin Safety and Environmental Systems Branch, ANM-150S, FAA, Seattle Aircraft Certification Office, 1601 Lind Avenue, SW., Renton, Washington 98055-4056; telephone (425) 917-6451; fax (425) 917-6590.

SUPPLEMENTARY INFORMATION:

Examining the Docket

You may examine the AD docket in person at the Docket Management Facility office between 9 a.m. and 5 p.m., Monday through Friday, except Federal holidays. The Docket Management Facility office (telephone (800) 647-5227) is located on the plaza level of the Nassif Building at the street address stated in the ADDRESSES section. This docket number is FAA-2005-20661; the directorate identifier for this docket is 2004-NM-261-AD.

Discussion

The FAA issued a notice of proposed rulemaking (NPRM) to amend 14 CFR part 39 to include an AD that would apply to certain Boeing Model 747-200B, 747-300, 747-400, and 747-400D series airplanes. That NPRM was published in the Federal Register on March 22, 2005 (70 FR 14428). That NPRM proposed to require modifying the lateral shear beam for the Door 5 crew rest and, for certain airplanes, replacing the Zone E tie rods and modifying the Zone E stowbin ladder.

Comments

We provided the public the opportunity to participate in the development of this AD. We have considered the comments that have been received on the NPRM.

Support for the Proposed AD

One commenter, the manufacturer, supports the proposed AD.

Request To Reduce Compliance Time

One commenter requests that the compliance time of 5 years to accomplish the actions specified in the proposed AD be shortened substantially. The commenter states that a 5-year compliance time is too long given that the affected lateral shear beam does not meet the 9G forward loading requirement.

We do not agree. The lateral shear beam has been substantiated to be structurally capable of carrying all flight, gust, and ground loads that may be encountered during normal operations by the subject Model 747-200B, 747-300, 747-400, and 747-400D series airplanes. The 9G forward loading requirement of section 25.561 (“General”) of the Federal Aviation Regulations (14 CFR 25.561) is an emergency landing load condition only and there is a very low probability that such loads will be encountered.

In developing the compliance time to adequately address the subject unsafe condition, we considered the degree of urgency associated with unsafe condition, the average utilization of the affected fleet, and the time necessary to perform the modification. In light of all of these factors, we found a compliance time of 60 months for completing the proposed modification to be warranted, in that it allows operators to schedule the modification during a routine heavy check and represents an appropriate interval of time for affected airplanes to continue to operate without compromising safety. This compliance time was coordinated with the manufacturer. We have not revised the final rule in this regard.

Request To Clarify Applicability

One commenter requests that the applicability be clarified. The commenter suggests adding wording to exclude freighters and special freighters. The commenter notes that the Door 5 crew rest is only applicable to passenger airplanes.

We agree that the proposed AD is applicable only to passenger models equipped with a Door 5 crew rest.

The applicability of the proposed AD includes Model 747-200B, 747-300, 747-400, and 747-400D series airplanes as identified in specific Boeing service bulletins. All of the airplanes identified in these service bulletins are passenger models equipped with a Door 5 crew rest; none of the airplanes identified in the service bulletins are freighters or special freighters. Therefore, it is not necessary to clarify the applicability to exclude freighters and special freighters. We have not revised the final rule in this regard.

Conclusion

We have carefully reviewed the available data, including the comments that have been received, and determined that air safety and the public interest require adopting the AD as proposed.

Costs of Compliance

There are about 424 airplanes of the affected design in the worldwide fleet. This AD will affect about 65 airplanes of U.S. registry. The following table provides the estimated costs for U.S. operators to comply with this AD.

Estimated Costs
Action | Work hours | Average labor rate per hour | Parts | Cost per airplane | Number of U.S.-registered airplanes | Fleet cost
Modification | 86-207 | $65 | $7,095-$37,770 | $12,685-$51,225 | 65 | $824,525-$3,329,625

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-16-01 Boeing: Amendment 39-14206. Docket No. FAA-2005-20661; Directorate Identifier 2004-NM-261-AD.

Effective Date

(a) This AD becomes effective September 6, 2005.

Affected ADs

(b) None.

Applicability

(c) This AD applies to the Boeing airplanes, certificated in any category, specified in paragraphs (c)(1), (c)(2), and (c)(3) of this AD.

(1) Model 747-200B and 747-300 series airplanes identified in Boeing Special Attention Service Bulletin 747-53-2497, dated November 4, 2004.

(2) Model 747-200B and 747-300 series airplanes on which Boeing Service Bulletins 747-25-2716, 747-25-2724, and 747-25-2784 have been done.

(3) Model 747-400 and 747-400D series airplanes identified in Boeing Special Attention Service Bulletin 747-53-2481, dated October 24, 2002.

Unsafe Condition

(d) This AD was prompted by a report that the lateral shear beam for the Door 5 crew rest does not meet the 9G forward loading requirement. We are issuing this AD to prevent the structural support for the Door 5 crew rest and Zone E stowbins from failing, which could result in the crew rest or stowbins falling during an emergency and consequent injury to crew and passengers.

Compliance

(e) You are responsible for having the actions required by this AD performed within the compliance times specified, unless the actions have already been done.

Model 747-200B and 747-300: Modification

(f) Within 60 months after the effective date of this AD, modify the lateral shear beam for the Door 5 crew rest by accomplishing all of the actions specified in the Accomplishment Instructions of Boeing Special Attention Service Bulletin 747-53-2497, dated November 4, 2004.

Model 747-400 and 747-400D: Modification and Replacement

(g) Within 60 months after the effective date of this AD, modify the lateral shear beam for the Door 5 crew rest, replace the Zone E tie rods, and modify the Zone E stowbin ladder, by accomplishing all of the actions specified in the Accomplishment Instructions of Boeing Special Attention Service Bulletin 747-53-2481, dated October 24, 2002.

Alternative Methods of Compliance (AMOCs)

(h) The Manager, Seattle Aircraft Certification Office (ACO), FAA, has the authority to approve AMOCs for this AD, if requested in accordance with the procedures found in 14 CFR 39.19.

Material Incorporated by Reference

(i) You must use Boeing Special Attention Service Bulletin 747-53-2481, dated October 24, 2002; or Boeing Special Attention Service Bulletin 747-53-2497, dated November 4, 2004; as applicable, to perform the actions that are required by this AD, unless the AD specifies otherwise. The Director of the Federal Register approved the incorporation by reference of these documents in accordance with 5 U.S.C. 552(a) and 1 CFR part 51. Contact Boeing Commercial Airplanes, P.O. Box 3707, Seattle, Washington 98124-2207, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on July 21, 2005.
Kevin M. Mullin,
Acting Manager, Transport Airplane Directorate, Aircraft Certification Service.

[FR Doc. 05-15017 Filed 8-1-05; 8:45 am]

BILLING CODE 4910-13-P